ENVIRONMENTAL PROTECTION AGENCY

[OEI-2004-0005; FRL-7698-1]

Lead-Based Paint System of Records (LPSOR)

AGENCY: Environmental Protection Agency (EPA).

ACTION: Notice.

SUMMARY: Pursuant to the provisions of the Privacy Act of 1974 (5 U.S.C. 552a), EPA's Office of Pollution Prevention and Toxics (OPPT) is giving notice that it intends to establish a new System of Records (SOR) under the Federal Lead-Based Paint Program. This system of records (LPSOR), comprising information stored in both electronic and hard paper formats, contains information on individuals who have applied for certification to conduct lead-based paint activities, who are students taking classes in lead-based paint activities, or who have been identified on behalf of firms which conduct or which receive accreditation to provide training in lead-based paint activities. EPA administers lead-based paint certification and accreditation programs in states, Indian tribal areas, and territories that do not have EPA authorization to administer such programs. Applicants interested in certification and accreditation must submit a complete application package and necessary fees for EPA approval.

DATES: EPA intends to implement the new System of Records on July 27, 2005.

FOR FURTHER INFORMATION CONTACT: Robert Wright,National Program Chemicals Division (7404T), Office of Pollution Prevention and Toxics, Environmental Protection Agency, 1200 Pennsylvania Ave., NW., Washington, DC 20460-0001; telephone number: (202) 566-1975; e-mail address:wright.robert@epa.gov.

SUPPLEMENTARY INFORMATION:

I. General Information

A. Does this Action Apply to Me

This action is directed to the public in general. This action may, however, be of interest to persons and firms making application for certification to perform lead-based paint activities and training organizations applying for accreditation to perform lead-based paint activity training. Since other entities may also be interested, the Agency has not attempted to describe all the specific entities that may be affected by this action. If you have any questions regarding the applicability of this action to a particular entity, consult the person listed under FOR FURTHER INFORMATION CONTACT.

B. How Can I Get Copies of this Document and Other Related Information

1. Docket. EPA has established an official public docket for this action under docket identification number OEI-2004-0005. The official public docket is the collection of materials that is available for public viewing at the OEI Docket in the EPA Docket Center, (EPA/DC) EPA West, Room B102, 1301 Constitution Ave., NW., Washington, DC. The EPA Docket Center Public Reading Room is open from 8:30 a.m. to 4:30 p.m., Monday through Friday, excluding legal holidays. The telephone number for the Reading Room is (202) 566-1744, and the telephone number for the OEI Docket is (202) 566-1752.

2. Electronic access. An electronic version of the public docket is available through EPA's electronic public docket and comment system, EPA Dockets (http://www.epa.gov/edocket/). EPA Dockets can be used to view public comments, to access the index listing of the contents of the official public docket, and to access those documents in the public docket that are available electronically. Although not all docket materials may be available electronically, you may still access any of the publicly available docket materials through the docket facility identified above.

II. LPSOR

The EPA Federal Lead-Based Paint Program system of records does not duplicate any existing system of records. The new system is a system of information on individuals who have applied for certification and accreditation to perform lead-based paint activities. The system handles Privacy Act protected information in the same manner regardless of whether the information is contained in electronic or hard copy form. Access to the system is restricted to authorized users and will be maintained in a secure, password protected computer system, in secure areas and buildings with physical access controls and environmental controls. The system is maintained by EPA's Office of Pollution Prevention and Toxics (OPPT).

List of Subjects

Environmental protection, Lead-based paint.

Dated: May 31, 2005.
Kimberly T. Nelson,
Assistant Administrator and Chief Information Officer, Office of Environmental Information.

EPA-54

System Name:

Lead-Based Paint Program System of Records (LPSOR).

Security Classification:

None.

System Location:

Records maintained under the LPSOR are stored in different formats and in several locations as follows:

(1) The main digital electronic system at EPA's central server at the National Computer Center (NCC) in Research Triangle Park (RTP), North Carolina. This database contains information entered on the system from some of the primary sources listed below under “Records in the System” (submitted forms and notifications).

(2) Hard copy files at both the EPA Regional offices and the facility operated by EPA's contractor in Silver Spring, Maryland. These records include the original or photocopied paper submissions (including supplementary submissions) to the Agency. Though similar in file content, the paper collections held by the EPA contractor in Silver Spring may differ from those maintained by the applicable Regional office.

(3) Records on various isolated electronic systems developed and operated by individual EPA Regional offices under their own initiative for local use. These electronic records are maintained separate from the main central server at RTP, and have been created solely by and for the use of the applicable Regional office.

Categories of Individuals Covered by the System:

Individuals covered by the System include those who have either applied for certification to perform lead-based paint activities, those who take classes on how to perform lead-based paint activities, or those who are identified on behalf of firms which conduct or which receive accreditation to provide training in lead-based paint activities.

Categories of Records in the System:

The LPSOR may contain such information about individuals as their name, social security number, home address, telephone number, date of birth,work-related information, signature, course test scores, submitted fees, and certifications.

Authority for Maintenance of the System:

40 CFR Part 745 Lead--Requirements for Lead-Based Paint Activities in Target Housing and Child-Occupied Facilities.

Purpose:

The purpose of LPSOR is to maintain (either in electronic or paper copy formats, or both) the information submitted to the Agency on various documents under the Federal Lead-Based Paint Program. These records include application forms, notification forms, and various support documents. By performing this function, LPSOR supports activities central to the program including issuing certificates and badges, analyzing information, generating letters and reports, and executing various enforcement actions.

Routine Uses of Records Maintained in the System and Their Purpose; Categories of Users:

The general routine uses for LPSOR are as follows: A, B, C, E, F, G, H, I, and K. (A detailed description of these routine uses can be found in the Agency's Systems of Records website at www.epa.gov/privacy/notice/general.htm.)

In addition, the following routine uses may also apply:

Program Disclosures/User Categories:

Consistent with applicable provisions of the Privacy Act and the Freedom of Information Act, the Agency may disclose information from LPSOR to Federal, State, or local agencies, private parties such as relatives, present and former employers and business and personal associates, and hearing officials, as a given situation might require, for purposes including the following:

(1) To verify the identity of the individual;

(2) To enforce the conditions or terms of Agency Lead-Based Paint Program regulations;

(3) To investigate possible fraud by (for example) applicants and users, and verify compliance with Agency Lead-Based Paint Program regulations;

(4) To prepare for litigation or to litigate fee collection and reporting enforcement matters;

(5) To initiate a limitation, suspension, and termination (LS&T) or debarment action;

(6) To investigate complaints, update files, and correct errors;

(7) To prepare for alternative dispute resolution (ADR) in any of the cases described in paragraphs (2), (3), and (4);

(8) To engage in audits or other internal matters within EPA;

(9) To contact certified individuals and applicants in the event of a system modification; or

(10) To respond to a change to the LPSOR, as in the case of a modification, revocation, or termination of a user's access privileges.

Polices and Practices for Storing, Retrieving, Safeguarding Access, Retaining, and Disposing of Records in the System:

• Records in the System

The LPSOR maintains records on individuals derived from a variety of sources relating to the undertaking of lead-based paint activities and training. These record sources include the following forms submitted to EPA: EPA Forms 8500-27 (“Application for Firms to Conduct Lead-Based Paint Activities”), 8500-25 (“Accreditation Application for Training Programs”) and 8500-28 (“Application for Individuals to Conduct Lead-Based Paint Activities”). The information derived from these forms concerns individuals who have either applied for certification or who have identified themselves as representatives on behalf of firms which conduct or which receive accreditation to provide training in lead-based paint activities. Other record sources include information derived from three required notifications submitted to EPA pursuant to 40 CFR part 745 (see theFederal Register of April 8, 2004, 69 FR 18489, “Lead; Notification Requirements for Lead-Based Paint Abatement Activities and Training”). The first requires firms certified under 40 CFR 745.226 to provide notification to the Agency prior to conducting lead-based paint abatement activities. The other two require training programs accredited under 40 CFR 745.225 to provide notification to the Agency prior to and then following conducting lead-based paint activities training courses. The data derived from these notifications include information on individuals who supervise lead-abatement projects and prepare the notification to EPA prior to doing so, or serve as instructors for, manage other instructors or attend training as students of these accredited programs. Finally, other record sources of information stored in the system may include supplementary documents obtained by Regional offices in the application approval process.

• Storage

Records maintained under the LPSOR are stored in different formats and in several locations. Each of these record collections, which together comprise the LPSOR, must adhere to the requirements of the Privacy Act, and are subject to the rules and restrictions for disclosure of information specified under the Freedom of Information Act (FOIA). These records are stored as follows:

(1) The main digital electronic system at EPA's central server at the National Computer Center (NCC) in Research Triangle Park (RTP), North Carolina. This database contains information entered in the system from the primary sources listed above (submitted forms and notifications).

(2) Hard copy files at both the EPA Regional offices and the facility operated by EPA's contractor in Silver Spring, Maryland. These records include the original or photocopied paper submissions (including supplementary submissions) to the Agency, as outlined above. Though similar in file content, the paper collections held by the EPA contractor in Silver Spring may differ from those maintained by the applicable Regional office.

(3) Records on various isolated electronic systems developed and operated by individual EPA Regional offices under their own initiative for local use. These electronic records are maintained separately from the main central server at RTP, and have been created solely by and for the use of the applicable Regional office.

• Retrieving

Records may be retrieved by referencing an individual's name, application ID number, applicant ID number, or program activity.

• Safeguarding Access

Physical access to the electronic data system housed within the facility at RTP is controlled by a computerized badge reading system, with the complex patrolled by security during non-business hours. All users are provided a unique user identification (ID) with personal identifiers. All interactions between the system and the authorized individual users are recorded through use of a card reader and tracking database. Paper records stored at the EPA contractor facility in Silver Spring are protected by computerized badge-reading security systems, with files maintained in locked file drawers. Records stored at EPA Regional offices are secured through building security with computerized badge-reading systems.

• Retaining and Disposing

EPA will retain and dispose of these records in accordance with the EPA Records Schedule 089 and the National Archives and Records Administration General Records Schedule 23/8. Application records maintained in the system are deleted/destroyed 2 years after the date of the last entry.

System Manager's Address and Telephone Number:

LPSOR System Manager, USEPA, Office of Pollution Prevention and Toxics, (7404T), 1200 Pennsylvania Ave., NW., Washington, DC 20460, Attn: Maria J. Doa, Ph.D., Director, National Program Chemicals Division, (202) 566-0500.

Notification Procedure:

Requests to determine whether this system of records contains a record pertaining to you must be sent to the LPSOR System Manager, USEPA, Office of Pollution Prevention and Toxics, (7404T), 1200 Pennsylvania Ave., NW., Washington, DC 20460. At a minimum, requestors will be required to provide adequate identification (e.g., driver's license, military identification card, employee badge or identification card) and, if necessary, proof of authority. Additional identity verification procedures may be required as warranted. Requests must meet the requirements of EPA regulations at 40 CFR part 16.

Record Access Procedures:

Requesters seeking access to this system shall follow the directions described under Notification Procedure and will be sent to the system manager at the address listed above.

Contesting Records Procedures:

If you wish to contest a record in the system of records, contact the system manager with the information described under Notification Procedure, identify the specific items you are contesting, and provide a written justification for each item.

Record Source Categories:

Information is obtained from individuals, firms, and training provider forms submitted for certification and/or accreditation to perform lead-based paint activities.

System Exempted from Certain Provisions of the Act:

None.

[FR Doc. 05-11913 Filed 6-16-05; 8:45 am]

BILLING CODE 6560-50-S